DEPARTMENT OF TRANSPORTATION

Federal Aviation Administration

14 CFR Part 39

[Docket No. FAA-2013-0518; Directorate Identifier 2009-SW-021-AD]

RIN 2120-AA64

Airworthiness Directives; Agusta S.p.A. (Type Certificate Currently Held by AgustaWestland S.p.A) (Agusta) Helicopters

AGENCY: Federal Aviation Administration (FAA), DOT.

ACTION: Notice of proposed rulemaking (NPRM).

SUMMARY: We propose to adopt a new airworthiness directive (AD) for Agusta Model A109A, A109AII, and A109C helicopters with a certain third stage turbine wheel installed. This proposed AD would require installing a placard on the instrument panel and revising the limitations section of the rotorcraft flight manual (RFM). This proposed AD is prompted by several incidents of third stage engine turbine wheel failures, which were caused by excessive vibrations at certain engine speeds during steady-state operations. The proposed actions are intended to alert pilots to avoid certain engine speeds during steady-state operations, prevent failure of the third stage engine turbine, engine power loss, and subsequent loss of control of the helicopter.

DATES: We must receive comments on this proposed AD by August 19, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact Agusta Westland, Customer Support & Services, Via Per Tornavento 15, 21019 Somma Lombardo (VA) Italy, ATTN: Giovanni Cecchelli; telephone 39-0331-711133; fax 39 0331 711180; or at http://www.agustawestland.com/technical-bullettins. You may review the referenced service information at the FAA, Office of the Regional Counsel, Southwest Region, 2601 Meacham Blvd., Room 663, Fort Worth, Texas 76137.

FOR FURTHER INFORMATION CONTACT: Chinh Vuong, Aviation Safety Engineer, Safety Management Group, Rotorcraft Directorate, FAA, 2601 Meacham Blvd., Fort Worth, Texas 76137; telephone (817) 222-5110; email chinh.vuong@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the aviation authority for Italy, has issued EASA AD No. 2009-0037-E, dated February 19, 2009, to correct an unsafe condition for Agusta Model A109A, A109AII, and A109C helicopters with a Rolls Royce Corporation (RRC) engine Model 250-C20B or 250-C20R/1 having a third stage turbine wheel part number (P/N) 23065833 installed. EASA advises that following several third stage turbine wheel failures, the engine type certificate holder, RRC, issued Commercial Engine Bulletin (CEB) A-1400 Revision 3, dated January 19, 2009 (CEB A-1400), to introduce an operational limitation on the power turbine (N2) speed range (95% to 97%) for more than 60 seconds in single or cumulative events for engines with the third stage turbine wheel P/N 23065833 installed.

The EASA AD requires amending the RFMs and installing a placard as described in Agusta Bollettino Tecnico No. 109-129, dated February 16, 2009 (BT 109-129). The EASA AD also states to avoid steady-state operation in the 95% to 97% N2 range for more than 60 seconds, and requires the corrective actions of CEB A-1400 if that limitation is exceeded.

FAA's Determination

These helicopters have been approved by the aviation authority of Italy and are approved for operation in the United States. Pursuant to our bilateral agreement with Italy, EASA, its technical representative, has notified us of the unsafe condition described in its AD. We are proposing this AD because we evaluated all known relevant information and determined that an unsafe condition is likely to exist or develop on other helicopters of the same type design.

Related Service Information

Agusta has issued BT 109-129, which contains procedures for installing a placard on the instrument panel below or near the engine and rotor RPM power turbine (N2) indicator and for inserting the RFM changes into the flight manual.

Proposed AD Requirements

This proposed AD would require installing a placard on the instrument panel adjacent to the engine and rotor RPM power turbine (N2) indicator and revising the Operating Limitations sections of the Model A109A, A109AII, and A109C RFMs to limit steady-state operations between speeds of 95% and 97%.

Costs of Compliance

We estimate that this proposed AD would affect 40 helicopters of U.S. Registry. Based on an average labor rate of $85 per hour, we estimate that operators may incur the following costs in order to comply with this AD. Amending the RFM would require about 0.25 work-hour, for a cost per helicopter of about $22 and a cost to U.S. operators of $880. Installing the decal would require about 0.2 work-hours, and required parts would cost about $5, for a cost per helicopter of $22 and a cost to U.S. operators of $880. Based on these estimates, the total cost of this proposed AD would be $44 per helicopter and $1,760 for the U.S. operator fleet.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Agusta S.p.A. (Type Certificate Currently Held By Agustawestland S.p.A.) (Agusta): Docket No. FAA-2013-0518; Directorate Identifier 2009-SW-021-AD.

(a) Applicability

This AD applies to Agusta Model A109A, A109AII, and A109C helicopters with a third stage turbine wheel, part number 23065833, installed, certificated in any category.

(b) Unsafe Condition

This AD defines the unsafe condition as a third stage turbine vibration, which could result in turbine failure, engine power loss, and subsequent loss of control of the helicopter.

(c) Comments Due Date

We must receive comments by August 19, 2013.

(d) Compliance

You are responsible for performing each action required by this AD within the specified compliance time unless it has already been accomplished prior to that time.

(e) Required Actions

Within 30 days:

(1) For Model A109A helicopters, revise the Power Plant Limitations section, page 1-7, of the Model A109A Rotorcraft Flight Manual (RFM) by inserting page 5 of Agusta Bollettino Tecnico No. 109-129, dated February 16, 2009 (BT 109-129).

(2) For Model A109AII helicopters, revise the Power Plant Limitations section, page 1-6, of the Model A109A RFM by inserting page 6 of BT 109-129.

(3) For Model A109C helicopters, revise the Power Plant and Transmission Limitations section, page 1-8, of the Model A109A RFM by inserting page 7 of BT 109-129.

(4) Install a placard on the instrument panel adjacent to the Engine and Rotor RPM Power Turbine (N2) Indicator that states:

MIN. CONT. 97% N2—MIN. TRANS. 95% N2

(f) Alternative Methods of Compliance (AMOCs)

(1) The Manager, Safety Management Group, FAA, may approve AMOCs for this AD. Send your proposal to: Chinh Vuong, Aviation Safety Engineer, Safety Management Group, Rotorcraft Directorate, FAA, 2601 Meacham Blvd., Fort Worth, Texas 76137; telephone (817) 222-5110; email chinh.vuong@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

(1) For service information identified in this AD, contact Agusta Westland, Customer Support & Services, Via Per Tornavento 15, 21019 Somma Lombardo (VA) Italy, ATTN: Giovanni Cecchelli; telephone 39-0331-711133; fax 39 0331 711180; or at http://www.agustawestland.com/technical-bullettins. You may review a copy of the service information at the FAA, Office of the Regional Counsel, Southwest Region, 2601 Meacham Blvd., Room 663, Fort Worth, Texas 76137.

(2) The subject of this AD is addressed in European Aviation Safety Agency AD No. 2009-0037-E, dated February 19, 2009.

(h) Subject

Joint Aircraft Service Component (JASC) Code: 7250: Turbine Section.

Issued in Fort Worth, Texas, on June 13, 2013.
Kim Smith,
Directorate Manager, Rotorcraft Directorate, Aircraft Certification Service.

[FR Doc. 2013-14694 Filed 6-19-13; 8:45 am]

BILLING CODE 4910-13-P